DEPARTMENT OF THE INTERIOR

Minerals Management Service

Preparation of an Environmental Assessment for Proposed Eastern Gulf of Mexico Lease Sale 181

AGENCY: Minerals Management Service, Interior.

ACTION: Preparation of an environmental assessment.

SUMMARY: The Minerals Management Service (MMS) is preparing an environmental assessment (EA) for a reduced area configuration of proposed Eastern Gulf of Mexico (GOM) Lease Sale 181. The MMS proposes to offer for lease 256 blocks offshore Alabama in the westernmost portion of the Eastern Planning Area of the GOM outer continental shelf (OCS). Three mitigation measures in the form of lease stipulations are included in the proposed action. This proposed sale is the only Eastern GOM sale scheduled during the current 5-Year Oil and Gas Leasing Program, and the first proposed sale in the Eastern GOM since 1988. We will publish an announcement in the Federal Register when the EA has been completed and is available to the public.

FOR FURTHER INFORMATION CONTACT: Minerals Management Service, Gulf of Mexico OCS Region, 1201 Elmwood Park Boulevard, New Orleans, Louisiana 70123-2394, Ms. Deborah Cranswick, telephone (504) 736-2744.

SUPPLEMENTARY INFORMATION: On January 25, 1999, the MMS published the Call for Information and Notice of Intent to Prepare an EIS for proposed Eastern Gulf of Mexico Lease Sale 181 in the Federal Register Scoping meetings in support of the development of the Draft EIS were held in Florida, Alabama, and Louisiana in July 1999. The Draft EIS was released in December 5, 2000, and public hearings on the Draft EIS were held in Florida, Alabama, and Louisiana in January 2001. The Final EIS was released in July 2001. The Final EIS evaluated three sale-area configurations and a no action alternative, as well as eleven mitigation measures in the form of lease stipulations. The current reduced-area proposal was not one of the alternatives evaluated in the Final EIS because the reduced-area sale configuration was developed after publication of the Final EIS; only three of the proposed lease stipulations are applicable to the reduced sale area. The issues and resources addressed in the EIS will be addressed in the EA for the reduced sale area.

The reduced lease sale area represents about 25 percent of the original proposed Lease Sale area. The reduced Lease Sale 181 area encompasses 256 blocks, about 1.5 million acres, located 100 to 200 miles offshore Alabama in water depths ranging from 1,600 to 3,000 meters. The proposed Sale area contains 1.25 trillion cubic feet of natural gas and 185 million barrels of oil. It is estimated that leases issued as a result of this Sale could lead to the production of 0.015 to 0.115 billion barrels of oil and 0.225 to 0.750 trillion cubic feet of gas.

Public Comments

The MMS requests interested parties to submit comments specific to the environmental issues related to the reduced lease sale area. Comments should be sent to Minerals Management Service, Gulf of Mexico OCS Region, Office of Leasing and Environment, Attention: Regional Supervisor (MS 5400), 1201 Elmwood Park Boulevard, New Orleans, Louisiana 70123-2394. Your comments must be submitted on or before August 27, 2001.

Dated: July 23, 2001.
Carolita U. Kallaur,
Associate Director for Offshore Minerals Management.

[FR Doc. 01-18815 Filed 7-26-01; 8:45 am]

BILLING CODE 4310-MR-P